DEPARTMENT OF COMMERCE

National Oceanic and Atmospheric Administration

RIN 0648-XT65

Endangered and Threatened Species; Take of Anadromous Fish

AGENCY: National Marine Fisheries Service (NMFS), National Oceanic and Atmospheric Administration (NOAA), Commerce.

ACTION: Notice; Issuance of a scientific research permit.

SUMMARY: Notice is hereby given that NMFS has issued Permit 14516 to Dr. Jerry Smith to take certain species of California Coho and Steelhead Salmon for scientific research. The research will allow enhanced monitoring and management of these salmonid species..

ADDRESSES: The application, permit, and related documents are available for review by selecting “Records Open for Public Comment” from the Features box on the Applications and Permits for Protected Species (APPS) home page, https://apps.nmfs.noaa.gov, and then selecting File No. 14516 from the list of available documents.

These documents are also available upon written request or by appointment, for Permit 14516: Protected Resources Division, NMFS, 777 Sonoma Avenue, Room 315, Santa Rosa, CA 95404 ph: (707) 575-6097, fax: (707) 578-3435).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast (CCC) coho salmon (Oncorhynchus kisutch) and threatened Central California Coast (CCC) steelhead (O. mykiss).

Permit Issued

A notice of the receipt of an application for a scientific research permit (14516) was published in the Federal Register on August 17, 2009 (74 FR 41373). Permit 14516 was issued to Dr. Smith on October 6, 2009.

Permit 14516 authorizes: (1) capture (by backpack electrofishing and beach seine), handling, sample tissues (fin-clip and scales) and release of adult CCC coho salmon; (2) capture (by backpack electrofishing and beach seine), handling, sample tissues (scales) and release of adult CCC steelhead; (3) capture (by backpack electrofishing and beach seine), marking (using fin-clips), sample tissues (fin-clip and scales), and release juvenile CCC coho salmon; (4) capture (by backpack electrofishing, beach seine), handling, marking (using fin-clips), sample tissues (scales), and release of juvenile CCC steelhead; (5) capture (by beach seine), mark (using fin-clip), sample tissues (fin-clip and scales), and release CCC coho salmon smolts; (6) capture (by beach seine), mark (using fin-clip), sample tissues (scales), and release CCC steelhead; and (7) sample tissues (fin-clip and scales) of adult CCC coho salmon carcasses.

Permit 14516 authorizes unintentional lethal take of: juvenile and smolt CCC coho salmon and CCC steelhead not to exceed 2 percent of the total number of fish captured for each life stage and species. Permit 14516 does not authorize any lethal take of adult ESA-listed salmonids.

Permit 14516 is for research to be conducted in San Gregorio Creek Lagoon, Pescadero Creek Lagoon, and multiple sites in the Gazos, Waddell and Scott creek watersheds (including their lagoons) in San Mateo and Santa Cruz counties, California. The purpose of the research is to provide ESA-listed salmonid population, distribution, and habitat assessment data which will: (1) continue long-term monitoring of CCC coho salmon and CCC steelhead year class abundance, broodyear strength, and population abundance in Gazos, Waddell and Scott creek watersheds and assess habitat quality and its effects on population dynamics; (2) seasonally monitor salmonid use of Gazos, Waddell and Scott creek lagoons to determine habitat utilization (upstream vs. lagoon) and growth rates; and (3) monitor seasonal abundance and growth of steelhead in Pescadero and San Gregorio lagoons and to acquire smolt and adult life history information from scales. The issued permit does not include creel surveys at Pescadero Lagoon as requested by the applicant. Permit 14516 expires on November 30, 2014.

Dated: January 11, 2010.
Angela Somma,
Chief, Endangered Species Division, Office of Protected Resources, National Marine Fisheries Service.

[FR Doc. 2010-581 Filed 1-13-10; 8:45 am]

BILLING CODE 3510-22-S